DEPARTMENT OF ENERGY

Federal Energy Regulatory Commission

[Docket No. AD21-14-000]

Resource Adequacy Developments in the Western Interconnection; Supplemental Notice of Technical Conference

As announced in the Notice of Technical Conference issued in the above-referenced proceeding on April 23, 2021, the Federal Energy Regulatory Commission (Commission) will convene a Commissioner-led technical conference on Wednesday, June 23, 2021 and Thursday, June 24, 2021, from approximately 12:30 p.m. to 5:00 p.m. (Eastern Time) each day. The conference will be held remotely over WebEx and broadcast on the Commission's website. Attached to this Supplemental Notice is an agenda for the technical conference, which includes the conference program and expected speakers.

The purpose of this conference is to discuss resource adequacy developments in the Western Interconnection. The Commission seeks to engage varied regional perspectives to discuss challenges, trends, possible ways to continue to ensure resource adequacy, and broader regional coordination in the Western Interconnection.

Discussions at the conference may involve issues raised in proceedings that are currently pending before the Commission. These proceedings include, but are not limited to:

| Docket No.
California Independent System Operator Corporation | ER21-1551-000
California Independent System Operator Corporation | ER21-1790-000
Duke Energy Progress, LLC | ER21-1579-000
Nevada Power Company v. California Independent System Operator Corporation | EL21-74-000
New York Independent System Operator, Inc | ER21-1018-000
PJM Interconnection, L.L.C | ER21-2043-000

The conference will be open for the public to attend remotely, and there is no fee for attendance. Information on this conference, including a link to the webcast, will be posted prior to the event on this conference's event page on the Commission's website, https://www.ferc.gov/news-events/events/technical-conference-discuss-resource-adequacy-developments-western. The conference will be transcribed. Transcripts will be available for a fee from Ace Reporting, (202) 347-3700.

Commission conferences are accessible under section 508 of the Rehabilitation Act of 1973. For accessibility accommodations, please send an email to accessibility@ferc.gov, call toll-free (866) 208-3372 (voice) or (202) 208-8659 (TTY), or send a fax to (202) 208-2106 with the required accommodations.

For more information about this technical conference, please contact Navin Shekar at navin.shekar@ferc.gov or (202) 502-6297. For information related to logistics, please contact Colin Beckman at colin.beckman@ferc.gov or (202) 502-8049, or Sarah McKinley at sarah.mckinley@ferc.gov or (202) 502-8368.

Dated: June 9, 2021.
Kimberly D. Bose,
Secretary.

[FR Doc. 2021-12513 Filed 6-14-21; 8:45 am]

BILLING CODE 6717-01-P